INTERNATIONAL TRADE COMMISSION

[Investigation No. 337-TA-947]

Certain Light-Emitting Diode Products and Components Thereof Commission Determination To Grant a Joint Motion To Terminate the Investigation on the Basis of a Settlement and License Agreement; Termination of the Investigation in Its Entirety

AGENCY: U.S. International Trade Commission.

ACTION: Notice.

SUMMARY: Notice is hereby given that the U.S. International Trade Commission has determined to grant a joint motion to terminate the investigation on the basis of a settlement and license agreement filed by complainant Cree, Inc. of Durham, North Carolina (“Cree”) and respondents Feit Electric Company, Inc. of Pico Rivera, California and Feit Electric Company, Inc. of Xiamen, China (collectively, “Feit”). The investigation is terminated in its entirety.

FOR FURTHER INFORMATION CONTACT: Cathy Chen, Esq., Office of the General Counsel, U.S. International Trade Commission, 500 E Street SW., Washington, DC 20436, telephone (202) 205-2392. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on February 18, 2015, based on a complaint filed by Cree. 80 FR 8685-86 (Feb. 18, 2015). The complaint alleged violations of section 337 in the importation into the United States, the sale for importation, and the sale within the United States after importation of certain light-emitting diode products and components thereof by reason of infringement of certain claims of U.S. Patent Nos. 7,976,187; 8,766,298; 6,657,236; 7,312,474; 8,596,819; and 8,628,214. The complaint also alleged violations of section 337 with respect to two other patents that have since been terminated from the investigation. The complaint further alleged violations of section 337 based on false and misleadingly advertised light-emitting diode products and components thereof in violation of section 43(a) of the Lanham Act, 15 U.S.C. 1125(a), and/or the federal common law of unfair competition. The notice of investigation named Feit; Unity Opto Technology Co., Ltd. of New Taipei City, Taiwan; and Unity Microelectronics, Inc. of Plano, Texas (collectively, “Unity”) as respondents. The Office of Unfair Import Investigations was also a party to the investigation.

On July 29, 2016, the presiding administrative law judge issued a final initial determination (“ID”), finding a violation of section 337 by Respondents. On September 29, 2016, the Commission determined, upon the parties' respective petitions, to review the ID in part, and requested briefing from the parties on the issues under review. On October 7, 2016, Respondents moved the Commission to reopen the record in this investigation in order to admit the results of verification testing for certain Feit accused products. On October 13, 2016, the parties submitted their respective briefs on the issues under review.

On December 16, 2016, Cree and Feit filed a joint motion to terminate the investigation in its entirety based on a settlement and license agreement. See Joint Motion to Terminate Investigation Based on Settlement and License Agreement (Dec. 16, 2016). Cree and Feit state in their joint motion to terminate that the “investigation should also be terminated as to [Unity], given that the Unity products-at-issue in this investigation are imported and/or made solely on behalf of Feit, and are thus covered by the Agreement.” Id. at 1. Unity did not oppose the motion. On December 20, 2016, the Commission Investigative Attorney filed a response in support of the joint motion to terminate. Also, on December 16, 2016, Cree and Feit filed an unopposed joint motion to stay the issuance of the final determination based on the joint motion to terminate. On December 19, 2016, the Commission extended the target date for completion of this investigation to January 26, 2017.

Having examined the record of this investigation, the Commission has determined to grant the joint motion to terminate the investigation. Cree and Feit's joint motion to stay and Respondents' motion to reopen the record are moot. The investigation is terminated in its entirety.

The authority for the Commission's determination is contained in section 337 of the Tariff Act of 1930, as amended, 19 U.S.C. 1337, and in part 210 of the Commission's Rules of Practice and Procedure, 19 CFR part 210.

By order of the Commission.
Issued: January 25, 2017.
Lisa R. Barton,
Secretary to the Commission.

[FR Doc. 2017-02002 Filed 1-30-17; 8:45 am]

BILLING CODE 7020-02-P